FEDERAL ELECTION COMMISSION

Election Administration Advisory Panel: Reestablishment of Charter

AGENCY: Federal Election Commission.

ACTION: Notice of Election Administration Advisory Panel: Advisory Panel Charter Reestablishment.

SUMMARY: The Federal Election Commission announces the reestablishment of the charter for the Election Administration Advisory Panel. The purpose of the Panel is to provide advice and consultation to the FEC's Office of Election Administration with respect to its research programs on election administration. The FEC adheres to the following criteria in the structuring of the twenty-member group: 1. The Panel should include representation of election officials from the major geographic subdivisions of the country as well as urban and rural areas. 2. The Panel membership should be bipartisan. 3. Every effort should be made to ensure a racially, ethnically and gender balanced Panel. The above criteria provide varied points of view that result in invaluable advice and counsel.

FOR FURTHER INFORMATION CONTACT: Bryan Whitener, Office of Election Administration, Federal Election Commission, 999 E Street, NW., Washington, DC 20463. Telephone: (202) 694-1095; Toll Free (800) 424-9530 (option 4).

Dated: March 19, 2002.
R. Bryan Whitener,
Election Specialist, Office of Election Administration, Federal Election Commission.

[FR Doc. 02-7031 Filed 3-22-02; 8:45 am]

BILLING CODE 6715-01-M